DEPARTMENT OF ENERGY

Federal Energy Regulatory Commission

[Docket No. EL21-9-000]

North Carolina Electric Membership Corporation v. Duke Energy Progress, LLC; Notice Granting Motion To Continue To Hold Proceeding in Abeyance

On March 7, 2022, North Carolina Electric Membership Corporation (NCEMC) filed a motion to continue to hold the complaint filed in the above-captioned proceeding in abeyance until June 1, 2022. NCEMC represents that itself and Duke Energy Progress, LLC (DEP) have been negotiating an agreement to implement several changes to the Power Supply and Coordination Agreement at issue in this proceeding, but the parties need additional time to finalize the agreement. NCEMC asks that the Commission delay taking any action in this docket for an additional period up to and including June 1, 2022, to allow parties to continue to finalize these details. NCEMC also states that DEP supports the motion.

Upon consideration, notice is hereby given that NCEMC's motion is granted. As such, the Commission will not take any action on the complaint filed in this proceeding until after June 1, 2022.

Dated: March 16, 2022.
Kimberly D. Bose,
Secretary.

[FR Doc. 2022-06015 Filed 3-21-22; 8:45 am]

BILLING CODE 6717-01-P